DEPARTMENT OF AGRICULTURE

Forest Service

Lake Tahoe Basin Federal Advisory Committee

AGENCY: Forest Service, USDA.

ACTION: Notice of meeting.

SUMMARY: The Lake Tahoe Basin Federal Advisory Committee will hold a meeting on December 15, 2008 at the U.S. Forest Service Office, 35 College Drive, South Lake Tahoe, CA 96150. This Committee, established by the Secretary of Agriculture on December 15, 1998 (64 FR 2876), is chartered to provide advice to the Secretary on implementing the terms of the Federal Interagency Partnership on the Lake Tahoe Region and other matters raised by the Secretary.

DATES: The meeting will be held December 15, 2008, beginning at 1:30 p.m. and ending at 4 p.m.

ADDRESSES: The meeting will be held at the U.S. Forest Service Office, 35 College Drive, South Lake Tahoe, CA 96150.

FOR FURTHER INFORMATION CONTACT: Arla Hains, Lake Tahoe Basin Management Unit (LTBMU), Forest Service, 35 College Drive, South Lake Tahoe, CA 96150, (530) 543-2773.

SUPPLEMENTARY INFORMATION: Items to be covered on the agenda include:

• Committee operations.

• Status and updates on the Tahoe Regional Planning Agency (TRPA) Regional Plan and the Lake Tahoe Basin Management Unit Forest Plan Revision.

• Status of two Memorandums of Understanding (MOUs) which includes the Lahontan Regional Water Quality Control Board and TRPA, and the Forest Service and TRPA on hazardous fuels and vegetation projects.

• Post Angora fire restoration efforts.

• Status of the Lake Tahoe Restoration Act (LTRA) reauthorization.

Interested citizens are encouraged to attend at the above address. Issues may be brought to the attention of the Committee during the open public comment period at the meeting or by filing written statements for the Committee before or after the meeting. Please refer any written comments attention Arla Hains, Lake Tahoe Basin Management Unit at the contact address stated above.

If you have questions concerning special needs for this public meeting, or to request sign language interpretation, contact Linda Lind, no later than December 8, 2008 at (530) 543-2787 or TTY (530) 543-0956, or via e-mail at LLind@fs.fed.us.

Dated: November 24, 2008.
Terri Marceron,
Forest Supervisor.

[FR Doc. E8-28437 Filed 11-28-08; 8:45 am]

BILLING CODE 3410-11-M